DEPARTMENT OF TRANSPORTATION

Research and Special Programs Administration

[Docket No. RSPA-98-4957; Notice 19]

Pipeline Safety: Revision of Natural Gas Transmission and Gathering Pipeline Incident and Annual Report Forms

AGENCY: Research and Special Programs Administration (RSPA), DOT.

ACTION: Notice and request for comments on revision of Information Collection OMB 2137-0522.

SUMMARY: As required by the Paperwork Reduction Act of 1995, the Research and Special Programs Administration (RSPA) is publishing its intention to revise forms RSPA F 7100.2—Incident Report For Gas Transmission and Gathering Systems and RSPA F 7100.2-1—Annual Report For Gas Transmission and Gathering Systems. The purpose of this notice is to allow the public 60 days from the date of this notice to comment on the proposed changes in the forms and the information collection burden.

DATES: Comments on this notice must be received on or before October 2, 2000.

FOR FURTHER INFORMATION CONTACT: Roger Little by telephone at 202-366-4569, by fax at 202-366-4566, by mail at U.S. Department of Transportation, RSPA, 400 Seventh Street, SW, Room 7128, Washington, DC, 20590, or by e-mail to roger.little@rspa.dot.gov.

ADDRESSES: Copies of this proposed information collection and the revised forms, RSPA F 7100.2—Incident Report for Gas Transmission and Gathering Systems and RSPA F 7100.2-1—Annual Report for Gas Transmission and Gathering Systems, can be reviewed in this docket at http://dms.dot.gov.

Address all comments concerning this notice to the Dockets Facility, U.S. Department of Transportation, Plaza 401, 400 Seventh Street, SW, Washington, DC 20590-0001. You may submit written comments by mail or delivery to the Dockets Facility, U.S. Department of Transportation, Room PL-401, 400 Seventh Street, SW, Washington, DC 20590-0001. The Dockets facility is open from 10:00 a.m. to 5:00 p.m., Monday through Friday, except federal holidays. Comments should identify the docket number of this notice, RSPA-98-4957. You should submit the original and one copy. If you wish to receive confirmation of receipt of your comments, you must include a stamped, self-addressed postcard.

Electronic Access and Filing Addresses

You may also submit or review comments electronically by accessing the Docket Management System's home page at http://dms.dot.gov. Click on “Help & Information” for instructions on how to file a document electronically. All written comments should identify the docket and notice numbers stated in the heading of this notice. Anyone desiring confirmation of mailed comments must include a self-addressed stamped postcard.

SUPPLEMENTARY INFORMATION:

Background

The information collected pertaining to reportable natural gas transmission incidents provide an important tool for identifying safety trends in the gas pipeline industry. The National Transportation Safety Board (NTSB), the Department of Transportation's Office of Inspector General, and the General Accounting Office have urged RSPA to revise the information collected on the natural gas transmission pipeline incident report form and annual report form. NTSB Safety Recommendation P-96-1 urges RSPA to:

develop within 1 year and implement within 2 years a comprehensive plan for the collection and use of gas and hazardous liquid pipeline accident data that details the type and extent of data to be collected, to provide the Research and Special Programs Administration with the capability to perform methodologically sound accident trend analyses and evaluations of pipeline operator performance using normalized accident data.

RSPA worked with representatives of the Interstate Natural Gas Association of America (INGAA) and the American Gas Association (AGA) to revise the natural gas transmission incident and annual report forms to make the information collected more useful to industry, government, and the public.

Abstract: To ensure adequate public protection from exposure to potential natural gas transmission pipeline failures, RSPA collects information on reportable transmission pipeline incidents. Additional information is also obtained concerning the characteristics of an operator's pipeline system. This information is needed for normalizing the incident information in order to provide for adequate safety trending. The requirements for reporting incidents are found in 49 CFR Part 191. The regulations require submission of the natural gas transmission annual report form by March 15 of each year for the preceding year's operations. Reports on transmission incidents must be submitted to RSPA in writing within 30 days of occurrence.

The reports to be revised are two of the four gas pipeline reporting forms authorized by Information Collection OMB 2137-0522, “Incident and Annual Reports for Gas Operators.” The proposed revisions are part of an ongoing process to revise all incident and annual reports.

Title: Incident Report for Gas Transmission and Gathering Systems (RSPA F 7100.1-1) and Annual Report For Gas Transmission and Gathering Systems (RSPA F 7100.2-1).

OMB Number: 2137-0522.

Estimate of Burden: The average burden hours per response is approximately 6 hours for the revised transmission incident report and 3 hours for the revised transmission annual report.

Respondents: Gas transmission pipeline operators.

Estimated Number of Respondents: 900 gas transmission pipeline operators.

Estimated Number of Responses per Respondent per Year: Incident Reports: 0.1; Annual Reports: 1.0.

Estimated Total Annual Burden on Respondents: The burden for each gas transmission pipeline operator is an average of 6 hours per incident report form and 3 hours per annual report form. For all 900 gas transmission pipeline operators the burden estimate is 540 hours (6 hours x 900 operators x 0.1 incidents) for incidents and 2,700 hours (3 hours x 900 operators) for annual reports, for a total burden of 3,240 hours per annum.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, D.C. on July 27, 2000.
Stacey L. Gerard,
Acting Associate Administrator for Pipeline Safety.

[FR Doc. 00-19481 Filed 8-1-00; 8:45 am]

BILLING CODE 4910-60-P